SOCIAL SECURITY ADMINISTRATION

20 CFR Parts 404 and 416

[Docket No. SSA-2012-0035]

RIN 0960-AH51

Revisions to Rules Regarding the Evaluation of Medical Evidence; Correction

AGENCY: Social Security Administration.

ACTION: Final rules; correction.

SUMMARY: We published a document in the Federal Register on January 18, 2017, that revises our rules. That document inadvertently contained technical errors. This document amends and corrects the final rules.

DATES: Effective March 27, 2017.

FOR FURTHER INFORMATION CONTACT: Dan O'Brien, Office of Disability Policy, Social Security Administration, 6401 Security Boulevard, Baltimore, Maryland 21235-6401, (410) 597-1632. For information on eligibility or filing for benefits, call our national toll-free number, 1-800-772-1213, or TTY 1-800-325-0778, or visit our Internet site, Social Security Online, at www.socialsecurity.gov.

SUPPLEMENTARY INFORMATION: We published final rules in the Federal Register on January 18, 2017 (82 FR 5844) titled “Revisions to Rules Regarding the Evaluation of Medical Evidence.” The final rules amended our rules in 20 CFR parts 404 and 416. That document inadvertently contained technical errors. This document amends and corrects the final rules.

(Catalog of Federal Domestic Assistance Program Nos. 96.001, Social Security - Disability Insurance; 96.002, Social Security—Retirement Insurance; and 96.004, Social Security—Survivors Insurance)

In FR Doc. 2017-00455 appearing on page 5844 in the Federal Register of Wednesday, January 18, 2017, the following corrections are made:

§ 404.1502 [Corrected]

1. On page 5863, starting in the third column, and running through the top of the second column of page 5864, § 404.1502 is corrected by adding paragraph designations (a) through (k) before the definitions in the section.

§ 404.1504 [Corrected]

2. On page 5864, in the second column, in § 404.1504, the last sentence is corrected by adding a space between “through” and “(4)”.

§ 404.1513 [Corrected]

3. On page 5865, in the middle column, in § 404.1513:

a. At the end of paragraph (a)(2) introductory text, add the sentence “(For claims filed (see § 404.614) before March 27, 2017, see § 404.1527(a) for the definition of medical opinion.)”.

b. In paragraph (a)(2)(iv), remove the parenthetical sentence at the end of the paragraph.

§ 404.1526 [Corrected]

4. On page 5869, in the middle column, in § 404.1526(d), the last sentence is corrected to read “See § 404.1616 for the necessary qualifications for medical consultants and psychological consultants.”

§ 404.1527 [Corrected]

5. On page 5871, in the first column, in § 404.1527(f)(1), the quotation marks around the words “acceptable medical sources” are removed.

§ 416.904 [Corrected]

6. On page 5874, in the third column, in § 416.904, in the subject heading, remove “ties” and add in its place “entities.”

§ 416.926 [Corrected]

7. On page 5880, in the first column, in § 416.926(d), the last sentence is corrected to read “See § 416.1016 for the necessary qualifications for medical consultants and psychological consultants.”

§ 416.927 [Corrected]

8. On page 5881, in the third column, in § 416.927(f)(1), the quotation marks around the words “acceptable medical source” are removed.

§ 416.1017 [Corrected]

9. On page 5883, in the third column, in § 416.1017, the section heading is corrected to read “§ 416.1017 Reasonable efforts to obtain review by a physician, psychiatrist, and psychologist.”

Nancy A. Berryhill,
Acting Commissioner of Social Security.

[FR Doc. 2017-06023 Filed 3-24-17; 8:45 am]

BILLING CODE 4191-02-P